OFFICE OF GOVERNMENT ETHICS

Request for Public Input on the Application of the Criminal Conflict of Interest Prohibition to Certain Beneficial Interests in Discretionary Trusts; Extension of Comment Period

AGENCY: Office of Government Ethics (OGE).

ACTION: Notice of request for public comments; extension of comment period.

SUMMARY: On January 3, 2017, OGE published in the Federal Register, 82 FR 122 (Jan. 3, 2017), a request for public input on the application of the criminal conflict of interest prohibition to certain beneficial interests in discretionary trusts. The public comment period closed on March 6, 2017. OGE is extending the comment period to April 20, 2017.

DATES: To be assured consideration, comments must be received at the address provided below, by April 20, 2017, though OGE may have some limited ability to review late submissions if workload and other considerations permit.

ADDRESSES: You may submit comments, in writing, to OGE regarding this notice and request by any of the following methods:

Email: usoge@oge.gov. Include the reference “Request for Input on Discretionary Trusts” in the subject line of the message.

Fax: (202) 482-9237.

Mail/Hand Delivery/Courier: U.S. Office of Government Ethics, Suite 500, 1201 New York Avenue NW., Washington, DC 20005-3917, Attention: “Request for Input on Discretionary Trusts.”

Instructions: All submissions must include OGE's agency name and the words “Discretionary Trusts.” All comments, including attachments and other supporting materials, will become part of the public record and subject to public disclosure. Comments may be posted on OGE's Web site, www.oge.gov. Sensitive personal information, such as account numbers or Social Security numbers, should not be included. Comments generally will not be edited to remove any identifying or contact information.

FOR FURTHER INFORMATION CONTACT: Jennifer A. Matis, Assistant Counsel, Office of Government Ethics, Suite 500, 1201 New York Avenue NW., Washington, DC 20005-3917; Telephone: 202-482-9300; TTY: 800-877-8339; FAX: 202-482-9237.

SUPPLEMENTARY INFORMATION: To be considered, any submission exceeding five (5) pages in length must include a one-page summary of key points and conclusions. Commenters are requested to state briefly the nature of their expertise in trust law. A copy of the original notice of request for public comments, 82 FR 122 (Jan. 3, 2017), is available at: https://www.gpo.gov/fdsys/pkg/FR-2017-01-03/pdf/2016-31583.pdf.

Approved: March 14, 2017.
Walter M. Shaub, Jr.,
Director, U.S. Office of Government Ethics.

[FR Doc. 2017-05454 Filed 3-17-17; 8:45 am]

BILLING CODE 6345-03-P